DEPARTMENT OF COMMERCE

National Oceanic and Atmospheric Administration

[RTID 0648-XA131]

North Pacific Fishery Management Council; Public Meeting

AGENCY: National Marine Fisheries Service (NMFS), National Oceanic and Atmospheric Administration (NOAA), Commerce.

ACTION: Notice of video conference.

SUMMARY: The North Pacific Fishery Management Council (Council) Crab Plan Team will meet May 4, 2020 through May 7, 2020.

DATES: The meeting will be held on Monday, May 4, 2020 through Wednesday May 6, 2020, from 8 a.m. to 4 p.m. Alaska Standard Time, and 8 a.m. to 11 a.m. on Thursday, May 7, 2020.

ADDRESSES: The meeting will be videoconference. Join online through the link at https://meetings.npfmc.org/Meeting/Details/1424.

Council address: North Pacific Fishery Management Council, 1007 W 3rd Ave., Anchorage, AK 99501-2252; telephone: (907) 271-2809. Instructions for attending the meeting via video conference are given under SUPPLEMENTARY INFORMATION, below.

FOR FURTHER INFORMATION CONTACT: Jim Armstrong, Council staff; email: james.armstrong@noaa.gov. For technical support please contact Maria Davis, Council staff, email: maria.davis@noaa.gov.

SUPPLEMENTARY INFORMATION:

Agenda

Monday, May 4, 2020 Through Thursday, May 7, 2020

The agenda will include: (a) Final 2020 stock assessments for Aleutian Islands golden king crab, Pribilof Island golden king crab, and Western Aleutian Islands red king Crab; (b) stock assessment modeling scenarios for snow crab, Tanner crab, Bristol Bay red king crab, and St Matthew Island blue king crab; (c) other discussions including the development of ecosystem and socioeconomic profiles for crab stocks, stock assessment model configuration and inputs, crab bycatch in groundfish fisheries, updated State of Alaska catch data and Board of Fisheries decisions; and (d) planning for future meetings. You can attend the meeting online using a computer, tablet, or smart phone, or by phone only. Connection information is available at: https://meetings.npfmc.org/Meeting/Details/1424.

The agenda is subject to change, and the latest version will be posted at https://meetings.npfmc.org/Meeting/Details/1424 prior to the meeting, along with meeting materials.

Public Comment

Public comment letters will be accepted and should be submitted electronically to https://meetings.npfmc.org/Meeting/Details/1424.

Special Accommodations

These meetings are accessible to people with disabilities. Requests for sign language interpretation or other auxiliary aids should be directed to Shannon Gleason at (907) 903-3107 at least 7 working days prior to the meeting date.

Authority: 16 U.S.C. 1801 et seq.

Dated: April 15, 2020.
Tracey L. Thompson,
Acting Deputy Director, Office of Sustainable Fisheries, National Marine Fisheries Service.

[FR Doc. 2020-08266 Filed 4-17-20; 8:45 am]

BILLING CODE 3510-22-P